DEPARTMENT OF VETERANS AFFAIRS

[OMB Control No. 2900-0205]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before April 13, 2006.

FOR FURTHER INFORMATION OR A COPY OF THE SUBMISSION CONTACT: Denise McLamb, Records Management Service (005E3), Department of Veterans Affairs, 810 Vermont Avenue, NW., Washington, DC 20420, (202) 565-8374, FAX (202) 565-6950 or e-mail: denise.mclamb@mail.va.gov. Please refer to “OMB Control No. 2900-0205.”

Send comments and recommendations concerning any aspect of the information collection to VA's OMB Desk Officer, OMB Human Resources and Housing Branch, New Executive Office Building, Room 10235, Washington, DC 20503, (202) 395-7316. Please refer to “OMB Control No. 2900-0205” in any correspondence.

SUPPLEMENTARY INFORMATION: Titles: Applications and Appraisals for Employment for Title 38 Positions and Trainees.

OMB Control Number: 2900-0205.

Type of Review: Revision of a currently approved collection.

Abstract: VA will use the data collected on VA Forms 10-2850, 2850a through d, VA Form Letters 10-341a and b to evaluate an applicant's qualification for employment with the VA, as well as their training, educational, and professional experiences. The data is necessary to determine the applicant's suitability, grade level and clinical privileges.

Affected Public: Individuals or Households, Business or other for-profit, Not-for-Profit Institutions, Federal Government, and State, Local or Tribal Government.

Estimated Annual Burden:

a. Application for Physicians, Dentists, Podiatrists and Optometrists, Chiropractors, VA Form 10-2850—7,450 hours.

b. Application for Nurses and Nurse Anesthetists, VA Form 10-2850a—29,799 hours.

c. Application for Residents, VA Form 10-2850b—15,893 hours.

d. Application for Associated Health Occupations, VA Form 10-2850c—9,933 hours.

e. Application for Health Professions Trainees, VA Form 10-2850d—28,143 hours.

f. Appraisal of Applicant, VA Form FL 10-341a—25,410 hours.

g. Trainee Qualification and Credentials Verification Letter, VA Form 10-341b—7,266 hours.

Estimated Average Burden Per Respondent:

a. Application for Physicians, Dentists, Podiatrists and Optometrists, Chiropractors, VA Form 10-2850—30 minutes.

b. Application for Nurses and Nurse Anesthetists, VA Form 10-2850a—30 minutes.

c. Application for Residents, VA Form 10-2850b—30 minutes.

d. Application for Associated Health Occupations, VA Form 10-2850c—30 minutes.

e. Application for Health Professions Trainees, VA Form 10-2850d—30 minutes.

f. Appraisal of Applicant, VA Form Letter 10-341a—30 minutes.

g. Trainee Qualification and Credentials Verification Letter, VA Form Letter 10-341b—5 minutes.

Frequency of Response: On occasion.

Estimated Number of Respondents:

a. Application for Physicians, Dentists, Podiatrists and Optometrists, Chiropractors, VA Form 10-2850—14,900.

b. Application for Nurses and Nurse Anesthetists, VA Form 10-2850a—59,598.

c. Application for Residents, VA Form 10-2850b—31,786.

d. Application for Associated Health Occupations, VA Form 10-2850c—19,866.

e. Application for Health Professions Trainees, VA Form 10-2850d—56,286.

f. Appraisal of Applicant, VA Form 10-341a—50,820.

g. Trainee Qualification and Credentials Verification Letter, VA Form 10-341b—87,190.

Dated: March 2, 2006.
By direction of the Secretary.
Denise McLamb,
Program Analyst, Records Management Service.

[FR Doc. E6-3636 Filed 3-13-06; 8:45 am]

BILLING CODE 8320-01-P